ENVIRONMENTAL PROTECTION AGENCY

40 CFR Parts 51 and 52

[AD-FRL-7788-7]

RIN 2060-AK28

Prevention of Significant Deterioration (PSD) and Nonattainment New Source Review (NSR): Routine Maintenance, Repair and Replacement; Reconsideration

AGENCY: Environmental Protection Agency (EPA).

ACTION: Announcement of public hearing.

SUMMARY: The EPA is announcing a public hearing to be held on August 2, 2004, regarding the July 1, 2004 reconsideration notice for regulations governing the NSR programs mandated by parts C and D of title I of the Clean Air Act (CAA). See 69 FR 40278. Being reconsidered are parts of the NSR regulations for routine maintenance, repair and replacement (RMRR) that were promulgated on October 27, 2003. See 68 FR 61249. The public hearing will provide interested parties the opportunity to present data, views, or arguments concerning the July 1, 2004 document.

DATES: The public hearing will convene on August 2, 2004 at 9 a.m. eastern daylight time and will end at 5 p.m. eastern daylight time or when the last registered speaker has had an opportunity to speak.

ADDRESSES: The public hearing will be held at the Sheraton Imperial Hotel, 4700 Emperor Boulevard, Durham, North Carolina 27703; telephone (919) 941-5050.

Docket: Documents related to this rule are available for public inspection in the EPA Docket Center under E-Docket ID No. OAR-2002-0068 (Legacy Docket ID No. A-2002-04). The record for this public hearing will remain open until September 1, 2004, to allow 30 days for submittal of additional information related to the hearing.

FOR FURTHER INFORMATION CONTACT: Mr. Dave Svendsgaard at (919) 541-2380, telefax (919) 541-5509, E-mail: svendsgaard.dave@epa.gov, or by mail at U.S. Environmental Protection Agency, OAQPS, Information Transfer and Program Integration Division, (C339-03), Research Triangle Park, North Carolina 27711. If you would like to speak at the hearing, you should contact Ms. Chandra Kennedy, U.S., Environmental Protection Agency, OAQPS, Information Transfer and Program Integration Division, (C339-03), Research Triangle Park, North Carolina 27711; telephone (919) 541-5319 or E-mail kennedy.chandra@epa.gov, by July 19, 2004, to confirm a reservation to speak. We will notify speakers of their assigned times by July 26, 2004. We will continue to accommodate requests to speak that are received after the July 19, 2004, deadline, subject to available time slots. Presentations will be limited to 5 minutes each.

SUPPLEMENTARY INFORMATION: The EPA's planned seating arrangement for the hearing is theater style, with seating available on a first-come, first-served basis for about 250 people. An agenda will be provided at the hearing.

Dated: July 8, 2004.
Gregory A. Green,
Acting Director, Office of Air Quality Planning and Standards.

[FR Doc. 04-16329 Filed 7-15-04; 8:45 am]

BILLING CODE 6560-50-P